DEPARTMENT OF ENERGY

Federal Energy Regulatory Commission

[Docket No. ER95-1586-012, et al.]

Citizens Utilities Company, et al.; Electric Rate and Corporate Filings

January 29, 2003.

The following filings have been made with the Commission. The filings are listed in ascending order within each docket classification.

1. Citizens Utilities Company

[Docket Nos. ER95-1586-012, EL96-17-006, OA96-184-009 and EL01-20-002]

Take notice that on January 21, 2003, Citizens Utilities Company (Citizens) tendered for filing with the Federal Energy Regulatory Commission (Commission) a summary and details showing both the refunds due to and repayments due from each customer under each of the relevant transmission services, and the total refunds due to and repayments due from each customer.

Comment Date: February 11, 2003.

2. PPL Brunner Island, LLC; PPL Holtwood, LLC; PPL Martins Creek, LLC; PPL Montour, LLC; PPL Susquehanna, LLC

[Docket No. ER00-744-001]

Take notice that on January 27, 2003, PPL Brunner Island, LLC, PPL Holtwood, LLC, PPL Martins Creek, LLC, PPL Montour, LLC, and PPL Susquehanna, LLC filed an updated market power analysis pursuant to the Commission's order in Southaven Power, LLC, 90 FERC ¶ 61,063.

The Companies state that a copy of this filing has been served on the parties on the Commission's official service list for this docket.

Comment Date: February 18, 2003.

3. Sussex Rural Electric Cooperative

[Docket No. ER02-2001-000]

Take notice that on January 27, 2003, Sussex Rural Electric Cooperative (Sussex) filed a request for waiver of the requirements of Order No. 2001 pursuant to 18 CFR 385.207 of the Federal Energy Regulatory Commission (Commission) regulations. Sussex's filing is available for public inspection at its offices in Sussex, New Jersey.

Comment Date: February 19, 2003.

4. Idaho Power Company

[Docket No. ER03-66-002]

Take notice that on January 27, 2003, Idaho Power Company submitted its compliance filing in the above-captioned docket.

Comment Date: February 18, 2003.

5. Termoelectrica U.S., LLC

[Docket No. ER03-175-002]

Take notice that on January 27, 2003, in compliance with the Federal Energy Regulatory Commission's (Commission) order, 102 FERC ¶ 61,024, Termoelectrica U.S., LLC (Termoelectrica US) tendered for filing a revised Rate Schedule FERC No. 1 to (1) prohibit sales between Termoelectrica U.S. and its affiliate San Diego Gas & Electric Company; and (2) to remove language allowing Termoelectrica U.S. to sell ancillary services into markets not operated by the California Independent System Operator Corporation, New England Power Pool, New York Power Pool, and Pennsylvania-New Jersey-Maryland Interconnection.

Comment Date: February 18, 2003.

6. PJM Interconnection, L.L.C.

[Docket No. ER03-331-002]

Take notice that on January 27, 2003, PJM Interconnection, L.L.C. (PJM) amended its December 24, 2002, and January 3, 2003, filings in this proceeding. In its December 24, 2002, and January 3, 2003, filings, PJM submitted for filing amendments to the Appendix of Attachment K of the PJM Open Access Transmission Tariff and Schedule 1 of the Amended and Restated Operating Agreement to modify the provisions relating to the determination of eligibility to receive Operating Reserves credits during Maximum Generation Emergency conditions. PJM amends the December 24, 2002, and January 3, 2003, filings to reflect more accurately the original intent of the amendments and to correct a mistake in the previously filed amendments.

Consistent with its December 24, 2002, and January 3, 2003, filings, PJM requests an effective date of February 23, 2003, for the amended filing.

PJM states that copies of this filing were served upon all parties listed on the official service list compiled by the Secretary in this proceeding, all PJM members, and each state electric utility regulatory commission in the PJM region.

Comment Date: February 18, 2003.

7. Soyland Power Cooperative, Inc.

[Docket No. ER03-357-001]

Take notice that on January 27, 2003, Soyland Power Cooperative, Inc. (Soyland) tendered for filing an amendment to its notice of cancellation of its all-requirements service contract with M.J.M. Electric Cooperative, Inc. (MJM). Soyland states that MJM has withdrawn from membership in Soyland, and Soyland will no longer provide all-requirements electric service to MJM. Soyland requests an effective date of December 31, 2002, for the notice of cancellation. Accordingly, Soyland requests waiver of the Commission's regulations. Soyland states that a copy of the filing has been served on MJM.

Comment Date: February 18, 2003.

8. Black Oak Energy, LLC

[Docket No. ER03-447-000]

Take notice that on January 27, 2003, Black Oak Energy, LLC (Seller) petitioned the Commission for an order: (1) Accepting Seller's proposed FERC rate schedule for market-based rates; (2) granting waiver of certain requirements under Subparts B and C of part 35 of the regulations; (3) granting the blanket approvals normally accorded sellers permitted to sell at market-based rates; and (4) granting waiver of the 60-day notice period.

Comment Date: February 18, 2003.

9. Metropolitan Edison Company

[Docket No. ER03-448-000]

Take notice that on January 27, 2003, Metropolitan Edison Company, a FirstEnergy Company, (MetEd) submitted a Notice of Cancellation for Service Agreement No. 584 between MetEd and The Bentech Group of Delaware, Inc. (Bentech).

MetEd states that a copy of this filing has been served upon Bentech, PJM Interconnection, L.L.C. and state regulators in Pennsylvania.

Comment Date: February 18, 2003.

10. Sussex Rural Electric Cooperative

[Docket No. ER03-449-000]

Take notice that on January 27, 2003, Sussex Rural Electric Cooperative (Sussex) submitted for filing and acceptance an agreement for mutual use of facilities with Jersey Central Power & Light pursuant to 205 of the Federal Power Act (FPA), 16 U.S.C. 824d, and 35.12 of the regulations of the Federal Energy Regulatory Commission (Commission), 18 CFR 35.12. Sussex's filing is available for public inspection at its offices in Sussex, New Jersey.

Sussex requests that the Commission accept the agreement with an effective date of July 26, 2002.

Comment Date: February 18, 2003.

11. Pleasants Energy, LLC

[Docket No. ER03-451-000]

Take notice that on January 28, 2003, Pleasants Energy, LLC ( Pleasants or the Company) respectfully tendered for filing a rate schedule for reactive power and voltage control from Generation Sources Service. The Company respectfully requests an effective date of April 1, 2003.

Copies of the filing were served upon the PJM Interconnection, L.L.C., Virginia State Corporation Commission, and the North Carolina Utilities Commission.

Comment Date: February 18, 2003.

12. Conjunction LLC

[Docket No. ER03-452-000]

Take notice that on January 27, 2003, on behalf of a yet to be formed subsidiary, submitted for filing an application for authority to sell transmission rights at negotiated rates (application). The application also includes a request for certain limited waivers of the Commission's regulations, as well as a request for Commission action on or before April 15, 2003. The application concerns a proposed transmission facility that will help integrate the upstate and downstate power markets in New York and improve reliability in New York City. The facility will be placed in service in 2005.

Comment Date: February 18, 2003.

13. Valley Electric Association, Inc.

[Docket No. ES03-21-000]

Take notice that on January 23, 2003, Valley Electric Association, Inc. (Valley Electric) submitted an application pursuant to section 204 of the Federal Power Act seeking authorization to make long-term borrowing under the loan agreement with the National Rural Utilities Cooperative Finance Corporation (CFC) in the amount of $39.3 million and to issue its debt under a line of credit with CFC of up to $15 million.

Valley Electric also requests a waiver from the Commission's competitive bidding and negotiated placement requirements at 18 CFR 34.2.

Comment Date: February 18, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-2879 Filed 2-5-03; 8:45 am]

BILLING CODE 6717-01-P